DEPARTMENT OF COMMERCE

National Oceanic and Atmospheric Administration

Proposed Information Collection; Comment Request; Knowledge, Attitudes, and Perceptions of Management Strategies/Regulations in the Florida Keys National Marine Sanctuary

AGENCY: National Oceanic and Atmospheric Administration (NOAA), DOC.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before August 15, 2005.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Dr. Vernon R. (Bob Leeworthy, 301-713-3000 ext. 138 or Bob.Leeworthy@noaa.gov.

SUPPLEMENTARY INFORMATION:

I. Abstract

The purpose of this effort is to do an approximate 10-year replication of a 1995-96 study that established baseline information on the knowledge, attitudes and perceptions of management strategies and regulations of the Florida Keys National Marine Sanctuary (FKNMS). The baseline was conducted for three user groups: (1) Commercial fishermen, (2) Dive Shop Owners/Operators, and (3) members of three local environmental groups (Last Stand, Reef Relief, and Sanctuary Friends). In 1998, the Socioeconomic Research and Monitoring Program for the FKNMS was established and the 1995-96 study results were incorporated as baseline measures.

The National Marine Sanctuaries Act (16 U.S.C. 1431, et seq.) authorizes the use of monitoring within National Marine Sanctuaries (NMS). The Florida Keys National Marine Sanctuary and Protection Act (Public Law 101-605, Sec 7 (5)) also authorizes monitoring. The Management Plan and regulations for the FKNMS were not implemented until July 1997, which established 22 Sanctuary Preservation Areas (SPAs) and one Ecological Reserve (ER) that are “no take” zones. Another ER, the Tortugas, was established as part of a two-year public process and its regulations went into effect in July 2002. All consumptive or take activities were displaced from these zones. Eighteen (18) of the SPAs were also created to resolve user conflicts, while four were set aside for “Research Only.” In creating these special zones, socioeconomic impact analyses were done as required under the National Environmental Policy Act (NEPA). In addition, a Regulatory Impact Review and an Initial and Final Regulatory Flexibility Analysis (if small businesses are potentially impacted by the no take regulations) were conducted. However, many of the benefits and costs identified in these analyses are speculative in nature and therefore a great deal of uncertainty about both the benefits and the costs. The 10-year replication of the 1995-96 study will support an assessment of any changes in knowledge, attitudes and perceptions of the no-take areas and establish new baselines on several new regulations established since 1995-96.

II. Method of Collection

Paper questionnaires and in-person interviews will be used to collect information.

III. Data

OMB Number: None.

Form Number: None.

Type of Review: Regular submission.

Affected Public: Individuals or households; business or other for-profits organizations; not-for-profit institutions.

Estimated Number of Respondents: 255.

Estimated Time Per Response: 2 hours.

Estimated Total Annual Burden Hours: 491.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 9, 2005.
Gwellnar Banks,
Management Analyst, Office of the Chief Information Officer.

[FR Doc. 05-11823 Filed 6-14-05; 8:45 am]

BILLING CODE 3510-NK-P